NATIONAL AERONAUTICS AND SPACE ADMINISTRATION

[Notice: (22-049)]

Earth Science Advisory Committee; Meeting

AGENCY: National Aeronautics and Space Administration.

ACTION: Notice of meeting.

SUMMARY: In accordance with the Federal Advisory Committee Act, the National Aeronautics and Space Administration (NASA) announces a meeting of the Earth Science Advisory Committee (ESAC). This Committee functions in an advisory capacity to the Director, Earth Science Division, in the NASA Science Mission Directorate. The meeting will be held for the purpose of soliciting, from the scientific community and other persons, scientific and technical information relevant to program planning.

DATES: Tuesday, August 2, 2022, 8:30 a.m.-5:00 p.m., and Wednesday, August 3, 2022, 8:30 a.m.-3:00 p.m., Eastern Time.

ADDRESSES: NASA Headquarters, Room 3H42A, 300 E Street SW, Washington, DC 20546.

FOR FURTHER INFORMATION CONTACT: Ms. KarShelia Kinard, Science Mission Directorate, NASA Headquarters, Washington, DC 20546, (202) 358-2355, fax (202) 358-2779, or karshelia.kinard@nasa.gov.

SUPPLEMENTARY INFORMATION: The meeting will be open to the public up to the capacity of the meeting room. This meeting is also available telephonically and by WebEx. You must use a touch-tone phone to participate in this meeting. Any interested person may call the USA toll free number 1-415-527-5035 or toll number 1-312-500-3163, Access code: 276 363 15585, for August 2, 2022, to participate in this meeting by telephone. The WebEx link is https://nasaevents.webex.com/nasaevents/j.php?MTID=m0234136c4bedf0b0fb3c880ce1030282 the meeting number is 2763 631 5585, password is imUpRbJj547 (case sensitive). For the second day, August 3, 2022 the USA toll free number +1-415-527-5035 or toll number +1-312-500-3163, Access code: 276 307 46285. The WebEx link is https://nasaevents.webex.com/nasaevents/j.php?MTID=mc2af8861a271c5f6a2fee56aa119a5ed the meeting number is 2763 074 6285, password is yExmRdzy368 (case sensitive). The agenda for the meeting includes the following topics:

—Earth Science Division Update

—Earth Science Decadal Survey Implementation (Earth System Observatory, Explorer missions)

— Earth Venture Program status

—Incubation Studies

—Open Science, Commercial Data Buy

—Diversity, Equity and Inclusion

The agenda will be posted on the ESAC web page: https://science.nasa.gov/researchers/nac/science-advisory-committees/esac.

Attendees will be requested to sign a register and to comply with NASA Headquarters security requirements, including the presentation of a valid picture ID to Security before access to NASA Headquarters. Foreign nationals attending this meeting will be required to provide a copy of their passport and visa in addition to providing the following information no less than 10 days prior to the meeting: full name; gender; date/place of birth; citizenship; passport information (number, country, telephone); visa information (number, type, expiration date); employer/affiliation information (name of institution, address, country, telephone); title/position of attendee. To expedite admittance, attendees with U.S. citizens and Permanent Residents (green card holders) may provide full name and citizenship status no less than 3 working days in advance by contacting Ms. KarShelia Kinard via email at karshelia.kinard@nasa.gov or by fax at 202-358-2779. It is imperative that the meeting be held on this date to accommodate the scheduling priorities of the key participants.

Carol J. Hamilton,
Acting Advisory Committee Management Officer, National Aeronautics and Space Administration.

[FR Doc. 2022-14340 Filed 7-5-22; 8:45 am]

BILLING CODE 7510-13-P